DEPARTMENT OF HEALTH AND HUMAN SERVICES

Centers for Disease Control and Prevention

Health Resources and Services Administration; CDC/HRSA Advisory Committee on HIV and STD Prevention and Treatment

In accordance with section 10(a)(2) of the Federal Advisory Committee Act (Pub. L. 92-463), the Centers for Disease Control and Prevention (CDC) and the Health Resources and Services Administration (HRSA) announce the following committee meeting.

Name: CDC/HRSA Advisory Committee on HIV and STD Prevention and Treatment.

Times and Dates: 8 a.m.-5 p.m., May 20, 2004. 8 a.m.-11:30 a.m., May 21, 2004.

Place:Sheraton Buckhead Hotel Atlanta, 3405 Lenox Road, Atlanta, Georgia.

Status: Open to the public, limited only by the space available. The meeting room will accommodate approximately 100 people.

Purpose: This Committee is charged with advising the Secretary; the Director, CDC; and the Administrator, HRSA, regarding activities related to prevention and control of HIV/AIDS and other STDs, the support of health care services to persons living with HIV/AIDS, and education of health professionals and the public about HIV/AIDS and other STDs. The Committee will support the Agencies' process of identifying and responding to the prevention and health service delivery needs of affected communities, and the needs of individuals living with or at risk for HIV and other STDs.

Matters To Be Discussed: Agenda items include issues pertaining to (1) Ryan White CARE Act Reauthorization (RWCA), (2) issues pertaining to syphilis and HIV prevention, and (3) CDC's Futures Initiative.

Agenda items are subject to change as priorities dictate.

Contact Person for More Information: Paulette Ford-Knights, Public Health Analyst, National Center for HIV, STD, and TB Prevention, 1600 Clifton Road, NE., Mailstop E-07, Atlanta, Georgia 30333. Telephone (404) 639-8008, fax (404) 639-3125, e-mail pbf7@cdc.gov.

The Director, Management Analysis and Services Office, has been delegated the authority to sign Federal Register notices pertaining to announcements of meetings and other committee management activities, for both CDC and the Agency for Toxic Substances and Disease Registry.

Dated: March 17, 2004.
Alvin Hall,
Director, Management Analysis and Services Office, Centers for Disease Control and Prevention.

[FR Doc. 04-6528 Filed 3-23-04; 8:45 am]

BILLING CODE 4163-18-P